DEPARTMENT OF TRANSPORTATION

Federal Aviation Administration

Notice Before Waiver With Respect to Land at Raleigh County Memorial Airport, Beckley, WV

AGENCY: Federal Aviation Administration (FAA), DOT.

ACTION: Notice of intent of waiver with respect to land.

SUMMARY: The FAA is publishing notice of proposed release of 218.37 acres of land at the Raleigh County Memorial Airport, Beckley, West Virginia, to the Raleigh County Airport Authority and the Raleigh County Commission for the development of an industrial park. there are no impacts to the Airport and the land is not needed for airport development as shown on the Airport Layout Plan. Fair Market Value of the land will be paid to the Raleigh County Airport and the Raleigh County Commission, and used for Airport purposes.

DATES: Comments must be received on or before September 19, 2003.

ADDRESSES: Comments on this application may be mailed or delivered in triplicate to the FAA at the following address:

Connie Boley-Lilly,

Program Specialist,

Federal Aviation Administration,

Beckley Airports District Office,

176 Airport Circle, Room 101,

Beaver, West Virginia 25813.

In addition, one copy of any comments submitted to the FAA must be mailed or delivered to Thomas Cochran, Airport Manager, Raleigh County Memorial Airport at the following address:

Thomas Cochran, Airport Manager,

Raleigh County Memorial Airport,

176 Airport Circle, Room 105,

Beaver, West Virginia 25813.

FOR FURTHER INFORMATION CONTACT: Connie Boley-Lilly, Program Specialist, Beckley Airport District Office, (304) 252-6216 ext. 125, FAX (304) 253-8028.

SUPPLEMENTARY INFORMATION: On April 5, 2000, new authorizing legislation became effective. That bill, the Wendell H. Ford Aviation investment and Reform Act for the 21st Century, Public Law 10-181 (April 5, 2000; 114 Stat. 61) (AIR 21) requires that a 30 day public notice must be provided before the Secretary may waive any condition imposed on an interest in surplus property.

Issued in Beckley, West Virginia, on August 6, 2003.
Larry F. Clark,
Manager, Beckley Airport District Office, Eastern Region.

[FR Doc. 03-21327 Filed 8-19-03; 8:45 am]

BILLING CODE 4910-13-M